DEPARTMENT OF THE TREASURY

Office of the Comptroller of the Currency

12 CFR Chapter I

[Docket ID OCC-2011-0017]

FEDERAL DEPOSIT INSURANCE CORPORATION

12 CFR Chapter III

RIN 3064-ZA01

List of Office of Thrift Supervision Regulations to be Enforced by the Office of the Comptroller of the Currency and the Federal Deposit Insurance Corporation Pursuant to the Dodd-Frank Wall Street Reform and Consumer Protection Act

AGENCY: Office of the Comptroller of the Currency, Treasury (OCC); Federal Deposit Insurance Corporation (FDIC).

ACTION: Joint notice.

SUMMARY: The Dodd-Frank Wall Street Reform and Consumer Protection Act (Act), transfers to the OCC the functions of the Office of Thrift Supervision (OTS) relating to Federal savings associations and also transfers to the OCC rulemaking authority of the OTS and the Director of the OTS, respectively, relating to all savings associations. Functions of the OTS relating to State savings associations are transferred to the FDIC. Section 316(c) of the Act requires the OCC and the FDIC, after consultation with one another, to identify those regulations of the OTS that are continued under Section 316(b) of the Act that the OCC, with respect to Federal savings associations, and the FDIC, with respect to State savings associations, will enforce, and to publish a list of those regulations in the Federal Register. This joint notice sets out the required lists of both the OCC and the FDIC.' TAG FOUND; PLEASE REVIEW ALL TAGGING IN PREVIOUS PARAGRAPH -->

FOR FURTHER INFORMATION CONTACT: OCC: Andra Shuster, Senior Counsel, Heidi Thomas, Special Counsel, or Mary Gottlieb, Regulatory Specialist, Legislative and Regulatory Activities Division, (202) 874-5090, Office of the Comptroller of the Currency, 250 E Street, SW., Washington, DC 20219.

FDIC: Ann Johnson Taylor, Counsel, (202) 898-3573; Rodney D. Ray, Counsel, (202) 898-3556; or Martin P. Thompson, Senior Review Examiner, (202) 898-6767, Federal Deposit Insurance Corporation, 550 17 St. NW., Washington, DC 20429.

SUPPLEMENTARY INFORMATION: The Act, signed into law on July 21, 2010,¹ transfers all functions of the OTS and the Director as well as all of the powers, authorities, rights, and duties vested in the OTS and the Director of the OTS relating to the transferred functions to the OCC, FDIC and the Board of Governors of the Federal Reserve System (the Board). All functions, powers, authorities, rights, and duties relating to Federal savings associations are transferred to the OCC and the Comptroller of the Currency; all functions, powers, authorities, rights, and duties relating to State savings associations are transferred to the FDIC; and all functions, powers, authorities, rights, and duties relating to the supervision of savings and loan holding companies (SLHCs) and any subsidiaries of such SLHCs other than depository institutions are transferred to the Board. The Act transfers rulemaking authority of the OTS and the Director of the OTS relating to savings associations to the OCC and the Comptroller of the Currency, and transfers rulemaking authority of the OTS and the Director of the OTS relating to SLHCs to the Board.² The transfer of OTS functions will take place on July 21, 2011. The Act abolishes the OTS 90 days after the transfer date.

¹ Public Law 111-203, 124 Stat. 1376 (July 21, 2010).

² Section 312(c) of the Act designated the FDIC as the “appropriate Federal banking agency” for State savings associations. Under those statutes (and others using similar terminology) for which the “appropriate Federal banking agency” is authorized to issue regulations, the FDIC will issue regulations for State savings associations.

Section 316(b) of the Act provides for the continuation of OTS regulations and enforcement of such regulations that have been issued in performance of the functions transferred by Title III of the Act. Section 316(c) of the Act requires the OCC and FDIC, after consultation with each other, to identify those regulations of the OTS that are continued under Section 316(b) of the Act that will be enforced by each agency and publish a list of those regulations in the Federal Register.³ This list must be published no later than the transfer date.

³ Separately, the Act requires the Board to identify the OTS regulations continued under Section 316(b) that the Board will enforce after the transfer date and to publish a list in the Federal Register.

This joint notice sets out both the OCC's and the FDIC's lists of OTS regulations that each agency will enforce beginning on the transfer date: The OCC, with respect to Federal savings associations; and the FDIC, with respect to State savings associations.⁴ This joint notice is not intended to have any substantive effect on the regulations at issue; rather it provides a reference for Federal savings associations that will be regulated and supervised by the OCC beginning on the transfer date and for State savings associations that will be regulated and supervised by the FDIC beginning on the transfer date.⁵ Separately, the OCC also plans to issue an interim final rule with a request for comment, effective on the transfer date, that republishes those OTS regulations the OCC will enforce as of the transfer date. These regulations will be added to Chapter I of Title 12 of the Code of Federal Regulations and renumbered accordingly as OCC rules, with nomenclature and other technical amendments to reflect OCC supervision. The OCC will consider more comprehensive substantive amendments to former OTS regulations, as appropriate, with the opportunity for public comment, after the transfer date.⁶

⁴ As set out in the tables below, certain provisions have been excluded because they relate to the supervision of SLHCs, which will be supervised by the Board, or are superseded by the Act.

⁵ Further, publication of this list should not be construed to restrict the OCC or the FDIC from enforcing violations of OTS regulations by Federal savings associations or State savings associations, respectively, that occurred prior to the transfer date.

⁶ The OCC also has issued a notice of proposed rulemaking to revise a number of OCC regulations to reflect the OCC's supervision of Federal savings associations and other changes necessitated by the Act. 76 FR 30557 (May 26, 2011).

On June 14, 2011, the FDIC's Board of Directors approved an interim rule with request for comment to revise a number of existing FDIC administrative and procedural rules to reflect the FDIC's supervision of State savings associations and to make other clarifying amendments to those rules.⁷ This interim rule, which was published in the Federal Register on June 21, 2011, will be effective on the transfer date. The FDIC plans to issue a second interim rule with a request for comment, also effective on the transfer date, which will republish certain OTS rules for which the FDIC has rulemaking authority. These regulations will be renumbered and added to Chapter III of Title 12 of the Code of Federal Regulations with nomenclature and other technical amendments. After the transfer date, and with the opportunity for public comment, the FDIC will consider incorporating these rules into its existing rules, amending them in a more substantive manner, or rescinding them, as appropriate.

⁷ 76 FR 35963 (June 21, 2011).

⁸ Pursuant to section 1025 of the Act, with respect to subpart C, the OCC will enforce this rule for Federal savings associations with assets of $10 billion or less. The Consumer Financial Protection Bureau will enforce subpart C of this rule for institutions with assets of more than $10 billion.

⁹ Pursuant to section 1025 of the Act, with respect to subpart D, the OCC will enforce this rule for Federal savings associations with assets of $10 billion or less. The Consumer Financial Protection Bureau will enforce subpart D of this rule for institutions with assets of more than $10 billion.

¹⁰ With respect to § 571.83 and subpart J, the OCC will enforce this rule for all Federal savings associations. Pursuant to section 1025 of the Act, with respect to the remaining provisions of part 571, the OCC will enforce this rule for Federal savings associations with assets of $10 billion or less and the Consumer Financial Protection Bureau will enforce this rule for institutions with assets of more than $10 billion.

¹¹ Pursuant to section 1025 of the Act, the OCC will enforce this rule for Federal savings associations with assets of $10 billion or less. The Consumer Financial Protection Bureau will enforce this rule for institutions with assets of more than $10 billion.

¹² Pursuant to section 1025 of the Dodd-Frank Act, the FDIC will enforce subpart D of this rule for State savings associations with assets of $10 billion or less. The Consumer Financial Protection Bureau will enforce this rule for institutions with assets of more than $10 billion.

¹³ With respect to § 571.83 and subpart J, the FDIC will enforce this rule for all State savings associations. Pursuant to section 1025 of the Dodd-Frank Act, with respect to the remaining provisions of part 571, the FDIC will enforce this rule for State savings associations with assets of $10 billion or less, and the Consumer Financial Protection Bureau will enforce this rule for institutions with assets of more than $10 billion.

¹⁴ Pursuant to section 1025 of the Dodd-Frank Act, the FDIC will enforce this rule for State savings associations with assets of $10 billion or less. The Consumer Financial Protection Bureau will enforce this rule for institutions with assets of more than $10 billion.

OTS Regulations That Will Be Enforced by the OCC—Title 12
Part or section | Chapter V—Office of Thrift Supervision, Department of the Treasury
Part 508 | Removals, Suspensions and Prohibitions where a Crime is Charged.
Part 509 (except 509.100(b) and Subparts C and D) | Rules of Practice and Procedure in Adjudicatory Proceedings.
Part 512 | Rules for Investigative Proceedings and Formal Examination Proceedings.
Part 516 | Application Processing Procedure.
Part 528 | Nondiscrimination Requirements.
Part 533 | Disclosure and Reporting of CRA-related Agreements.
Part 536 | Consumer Protection in Sales of Insurance.
Part 541 | Definitions for Federal Savings Association Regulations.
Part 543 | Federal Mutual Savings Associations—Incorporation, Organization and Conversion.
Part 544 | Federal Mutual Savings Associations—Charter and Bylaws.
Part 545 (except 545.2) | Federal Savings Associations—Operations.
Part 546 | Federal Mutual Savings Associations—Merger, Dissolution, Reorganization, and Conversion.
Part 550 (except 550.10(b)) | Fiduciary Powers of Savings Associations.
Part 551 | Recordkeeping for Securities Transactions.
Part 552 | Federal Stock Associations—Incorporation, Organization, and Conversion.
Part 555 (except 555.310(b)) | Electronic Operations.
Part 557 (except 557.11, 12 and 13) | Deposits.
Part 559 | Subordinate Organizations.
Part 560 ⁸ (except 560.2) | Lending and Investment.
Part 561 | Definitions for Regulations Affecting All Savings Associations.
Part 562 (except 562.4(b)(2)) | Regulatory Reporting Standards.
Part 563 ⁹ (except 563.171, and 563.172(b)(2)) | Savings Associations—Operations.
Part 563b | Conversions from Mutual to Stock Form.
Part 563c | Accounting Requirements.
Part 563d | Securities of Savings Associations.
Part 563e | Community Reinvestment.
Part 563f | Management Official Interlocks.
Part 563g | Securities Offerings.
Part 564 | Appraisals.
Part 565 | Prompt Corrective Action.
Part 567 | Capital.
Part 568 | Security Procedures.
Part 569 | Proxies.
Part 570 | Safety and Soundness Guidelines Establishing Standards for Safety and Soundness.
Part 571 ¹⁰ | Fair Credit Reporting.
Part 572 | Loans in Areas Having Special Flood Hazards.
Part 573 ¹¹ | Privacy of Consumer Information.
Part 574 (except provisions only applicable to SLHCs) | Acquisition of Control of Savings Associations.
Part 590 | Preemption of State Usury Laws.
Part 591 | Preemption of Due-on-Sale Laws.

OTS Regulations That Will Be Enforced by the FDIC—Title 12
Part or section | Chapter V—Office of Thrift Supervision, Department of the Treasury
Part 507 (except 507.3(b)) | Restrictions on Post-Employment Activities of Senior Examiners.
Part 508 | Removals, Suspensions and Prohibitions where a Crime is Charged.
Part 509 (except 509.1(e)(3), 509.100(b), 509.103(b)(2), and Subparts C and D) | Rules of Practice and Procedure in Adjudicatory Proceedings.
Part 512 | Rules for Investigative Proceedings and Formal Examination Proceedings.
Part 513 | Practice Before the Office.
Part 516 (except 516.45(a)(3), and 516.290(b)) | Application Processing Procedure.
Part 528 | Nondiscrimination Requirements.
Part 533 (except 533.1(b)(2) and 533.10) | Disclosure and Reporting of CRA-related Agreements.
Part 536 | Consumer Protection in Sales of Insurance.
Part 550 (only 550.10(b)) | Fiduciary Powers of Savings Associations.
Part 551 | Recordkeeping for Securities Transactions.
Part 555 (only Subpart B, except 555.310(b)) | Electronic Operations.
Part 557 (only Subpart C) | Deposits.
Part 558 | Possession by Conservators and Receivers for Federal and State Savings Associations.
Part 559 (only Subpart B) | Subordinate Organizations.
Part 560 (only 560.1, 560.3 and Subpart B) | Lending and Investment.
Part 561 (except 561.18(b) and 561.34) | Definitions for Regulations Affecting All Savings Associations.
Part 562 (except 562.4(b)(2)) | Regulatory Reporting Standards.
Part 563 ¹² (except 563.161 as to service corporations, 563.172(b)(1), 563.180(d)(4), 563.555 (definition of “Troubled condition” (2)) | Savings Associations—Operations.
Part 563b | Conversions from Mutual to Stock Form.
Part 563c | Accounting Requirements.
Part 563d (except 563d.2) | Securities of Savings Associations.
Part 563e | Community Reinvestment.
Part 563f (except 563f.2(o)(1)) | Management Official Interlocks.
Part 563g | Securities Offerings.
Part 564 | Appraisals.
Part 565 (except 565.5(h)) | Prompt Corrective Action.
Part 567 | Capital.
Part 568 | Security Procedures.
Part 569 | Proxies.
Part 570 | Safety and Soundness Guidelines Establishing Standards for Safety and Soundness.
Part 571¹³ (except 571.30(a)(1)(iii), (iv), and (v)) | Fair Credit Reporting.
Part 572 | Loans in Areas Having Special Flood Hazards.
Part 573 ¹⁴ | Privacy of Consumer Information.
Part 574 (except provisions applicable to SLHCs) | Acquisition of Control of Savings Associations.
Part 590 | Preemption of State Usury Laws.
Part 591 | Preemption of Due-on-Sale Laws.

Dated: June 15, 2011.
John Walsh,
Acting Comptroller of the Currency.
By order of the Board of Directors.
Dated at Washington, DC, this 14th day of June, 2011.
Federal Deposit Insurance Corporation.
Robert E. Feldman,
Executive Secretary.

[FR Doc. 2011-16875 Filed 7-5-11; 8:45 am]

BILLING CODE 4810-33-P; 6714-01-P